DEPARTMENT OF TRANSPORTATION

Surface Transportation Board

[STB Finance Docket No. 34390]

Winchester and Western Railroad Company, New Jersey Division—Acquisition Exemption—Line of Consolidated Rail Corporation

Winchester and Western Railroad Company (W&W), New Jersey Division, a Class III rail carrier, has filed a verified notice of exemption under 49 CFR 1150.41 to acquire approximately 1.4 miles of railroad from Consolidated Rail Corporation (Conrail), known as a portion of the Millville Industrial Track. The trackage extends between milepost 39.4, located between Conrail's Millville Yard and Second Street, and milepost 40.8, located south of the intersection of Sixth and Smith Streets, in Millville, Cumberland County, NJ. The property to be acquired also includes a short stub-ended spur track.¹ W&W currently operates over the line under an interchange agreement with Conrail.

¹ Conrail has reserved for itself a permanent freight operating easement beginning at milepost 39.4 and extending south and consisting of sufficient footage of track solely to accommodate headroom or tailroom for an approximate 100-car unit train, being approximately 6,000 feet in length. The purpose of this easement will be to facilitate Conrail switching and train movements in the yard.

W&W certifies that its projected annual revenues as a result of this transaction will not exceed $5 million, and thus the transaction will not result in the creation of a Class I or Class II rail carrier.

W&W intended to consummate this transaction on or about September 2, 2003.²

² The effective date of the exemption was September 1, 2003 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34390, must be filed with the Surface Transportation Board, 1925 K Street, NW., Washington, DC 20423-0001. In addition, one copy of each pleading must be served on applicant's representative: John D. Heffner, 1920 N Street, NW., Suite 800, Washington, DC 20036.

Board decisions and notices are available on our Web site at http://www.stb.dot.gov.

Decided: September 4, 2003.
By the Board, David M. Konschnik, Director, Office of Proceedings.
Vernon A. Williams,
Secretary.

[FR Doc. 03-23170 Filed 9-11-03; 8:45 am]

BILLING CODE 4915-00-P